FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 011324-019.

Title: Transpacific Space Utilization Agreement.

Parties: American President Lines Ltd./APL Co. Pte Ltd.; Evergreen Marine Corporation; Hanjin Shipping Co., Ltd.; Hapag-Lloyd AG; Hyundai Merchant Marine Co., Ltd.; Kawasaki Kisen Kaisha Ltd.; Mitsui O.S.K. Lines, Ltd.; Nippon Yusen Kaisha; Orient Overseas Container Line Limited; Westwood Shipping Lines; and Yangming Marine Transport Corp.

Filing Party: Wayne R. Rohde, Esq.; Sher & Blackwell; 1850 M Street, NW., Suite 900; Washington, DC 20036.

Synopsis: The amendment would delete Evergreen Marine Corporation and add Evergreen Line Joint Service Agreement, FMC No. 011982, as a party.

Agreement No.: 011325-038.

Title: Westbound Transpacific Stabilization Agreement.

Parties: American President Lines, Ltd./APL Co. Pte Ltd.; COSCO Container Lines Company Limited; COSCO Container Lines (Hong Kong) Co., Limited; Evergreen Marine Corporation (Taiwan), Ltd.; Hanjin Shipping Co., Ltd.; Hapag-Lloyd AG; Hyundai Merchant Marine Co. Ltd.; Kawasaki Kisen Kaisha, Ltd.; Nippon Yusen Kaisha Line; Orient Overseas Container Line Limited; and Yangming Marine Transport Corp.

Filing Party: Wayne R. Rohde, Esq.; Sher & Blackwell, LLP; 1850 M Street, NW., Suite 900; Washington, DC 20036.

Synopsis: The amendment would delete Evergreen Marine Corporation (Taiwan) Ltd. and add Evergreen Line Joint Service Agreement, FMC No. 011982, as a party. It would also delete COSCO Container Lines (Hong Kong) Co., Limited and the accompanying note and add COSCO Container Lines Company Limited.

Agreement No.: 011353-033.

Title: The Credit Agreement.

Parties: APL Co. PTE Ltd.; A.P. Moller-Maersk A/S; Caribbean General Maritime, Ltd.; Crowley Liner Services, Inc.; Dole Ocean Cargo Express; Evergreen Marine Corporation (Taiwan) Ltd.; King Ocean Services de Venezuela/King Ocean Services Limited; Seaboard Marine of Florida, Inc.; and Seaboard Marine Ltd.

Filing Party: Wayne R. Rohde, Esq.; Sher & Blackwell; 1850 M Street, NW., Suite 900; Washington, DC 20036.

Synopsis: The amendment updates A.P. Moller-Maersk A/S' trade name. It also would delete Evergreen Marine Corporation (Taiwan) Ltd. and add Evergreen Line Joint Service Agreement, FMC Agreement No. 011982, as a party.

Agreement No.: 011409-015.

Title: Transpacific Carrier Services Inc. Agreement.

Parties: American President Lines, Ltd./APL Co. Pte Ltd.; CMA CGM, S.A.; China Shipping Container Lines Co., Ltd.; COSCO Container Lines Co., Ltd.; Evergreen Marine Corporation; Hanjin Shipping Co., Ltd.; Hapag-Lloyd AG; Hyundai Merchant Marine Co., Ltd.; Kawasaki Kisen Kaisha, Ltd.; Mitsui O.S.K. Lines, Ltd.; Nippon Yusen Kaisha, Ltd.; Orient Overseas Container Line Limited; and Yang Ming Marine Transport Corp.

Filing Party: Wayne R. Rohde, Esq.; Sher & Blackwell; 1850 M Street, NW., Suite 900; Washington, DC 20036.

Synopsis: The amendment would delete Evergreen Marine Corporation and add Evergreen Line Joint Service Agreement, FMC No. 011982, as a party. It would also delete COSCO Container Lines (Hong Kong) Co., Limited and the accompanying note.

Agreement No.: 011679-008.

Title: ASF/SERC Agreement.

Parties: American President Lines, Ltd./APL Co. Pte Ltd.; ANL Singapore Pte Ltd.; China Shipping (Group) Company/China Shipping Container Lines, Co. Ltd.; COSCO Container Lines Company, Ltd.; COSCO Container Lines (Hong Kong) Co., Limited; Evergreen Marine Corp. (Taiwan) Ltd.; Hanjin Shipping Co., Ltd.; Hyundai Merchant Marine Co., Ltd.; Kawasaki Kisen Kaisha, Ltd.; Mitsui O.S.K. Lines, Ltd.; Nippon Yusen Kaisha; Orient Overseas Container Line Ltd.; Sinotrans Container Lines Co., Ltd.; Wan Hai Lines Ltd.; and Yang Ming Marine Transport Corp.

Filing Party: Wayne R. Rohde, Esq.; Sher & Blackwell; 1850 M Street, NW., Suite 900; Washington, DC 20036.

Synopsis: The amendment would delete Evergreen Marine Corp. (Taiwan) Ltd. and add Evergreen Line Joint Service Agreement, FMC Agreement No. 011982, as a party. It would also delete COSCO Container Lines (Hong Kong) Co., Limited and the accompanying note.

Agreement No.: 011870-004.

Title: Indian Subcontinent Discussion Agreement.

Parties: CMA CGM S.A.; Emirates Shipping Line FZE; Evergreen Marine Corp. (Taiwan) Ltd.; Hapag-Lloyd AG; MacAndrews & Company Limited; Nippon Yusen Kaisha; Shipping Corporation of India; United Arab Shipping Company (S.A.G.); and Zim Integrated Shipping Services, Ltd.

Filing Party: Wayne R. Rohde, Esq.; Sher & Blackwell; 1850 M Street, NW., Suite 900; Washington, DC 20036.

Synopsis: The amendment would delete Evergreen Marine Corp. (Taiwan) Ltd. and add Evergreen Line Joint Service Agreement, FMC No. 011982, as a party.

Agreement No.: 011991.

Title: CSAV/NYK Chile Space Charter Agreement.

Parties: Compania Sud Americana de Vapores S.A. and Nippon Yusen Kaisha.

Filing Party: Wayne R. Rohde, Esq.; Sher & Blackwell LLP; 1850 M Street, NW., Suite 900; Washington, DC 20036.

Synopsis: The agreement authorizes CSAV to charter space to NYK for the carriage of motor vehicles on car carriers from Newark, NJ, to ports in Chile.

Dated: March 23, 2007.
By Order of the Federal Maritime Commission.
Bryant L. VanBrakle,
Secretary.

[FR Doc. E7-5683 Filed 3-27-07; 8:45 am]

BILLING CODE 6730-01-P